DEPARTMENT OF AGRICULTURE

Submission for OMB Review; Comment Request

The Department of Agriculture has submitted the following information collection requirement(s) to OMB for review and approval under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by May 22, 2024. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Agricultural Marketing Service

Title: Marketing Order No. 984 for Walnuts Grown in California.

OMB Control Number: 0581-NEW.

Summary of Collection: Marketing Order No. 984 (7 CFR part 984) regulates the handling of walnuts grown in California and emanates from enabling legislation (the Agricultural Marketing Agreement Act of 1937, secs. 1-19, 48 Stat. 31, as amended; 7 U.S.C. 601-674). This legislation, hereinafter referred to as the Act, was designed to permit regulation of certain agricultural commodities for the purpose of providing orderly marketing conditions in interstate commerce and to improve returns to growers. Section 608 (d)(1) of the Act provides the Department of Agriculture (USDA) with the authority to request from the regulated handlers such information as is deemed necessary to determine the extent to which a marketing order has effectuated the declared policy of the Act.

Marketing Order No. 984 became effective in 1948, following public hearings in accordance with formal rulemaking procedures specified under the Act, and is locally administered by the California Walnut Board (Board). Growers approved the marketing order in referendum, as specified by the Act. The marketing order authorizes quality regulations and research and promotion programs for walnuts grown in California.

Need and Use of the Information: Under the program, handler assessment obligations are incurred at the time of certification, and provisions under § 984.67 exempt certain walnut sales from assessments and quality regulations. Therefore, walnuts considered exempt are not inspected, certified, and assessed. Under the new mechanism of determining and collecting assessments, handler assessments would be based on walnuts received rather than walnuts certified. Accordingly, effective September 20, 2023, walnut receipts for deliveries that previously would have been exempt, as those walnuts would not be inspected and certified, may now be subject to assessment. To ensure that those walnuts continue to be exempt from assessment and/or that handlers can receive a refund against their current year assessments for walnut deliveries exempt under § 984.67, the Board recommended the establishment of the new information collection form described below. The form designated as OMB No. 0581-NEW is voluntary and is titled (CWB Form No. 2) Report of Walnuts Exempt from Assessments. Depending on when handlers submit the form, submission would either ensure that walnuts that are exempt from assessment are not assessed or if they are assessed, handlers would be able to receive a refund.

Description of Respondents: Business or other for-profit; Farms.

Number of Respondents: 14.

Frequency of Responses: Reporting: Annually.

Total Burden Hours: 1.

Levi S. Harrell,
Departmental Information Collection Clearance Officer.

[FR Doc. 2024-08544 Filed 4-19-24; 8:45 am]

BILLING CODE 3410-02-P